DEPARTMENT OF THE INTERIOR

Fish and Wildlife Service

[FWS-R7-R-2008-N0068; 70133-1265-000-S3]

Tetlin National Wildlife Refuge, Tok, AK

AGENCY: Fish and Wildlife Service, Interior.

ACTION: Notice of availability of the revised comprehensive conservation plan and finding of no significant impact for environmental assessment.

SUMMARY: We, the U.S. Fish and Wildlife Service (Service) announce the availability of our Revised Comprehensive Conservation Plan (CCP) and Finding of No Significant Impact (FONSI) for the Environmental Assessment (EA) for the Tetlin National Wildlife Refuge (Tetlin Refuge). In this revised CCP, we describe how we will manage this refuge for the next 15 years.

ADDRESSES: You may view or obtain copies of the revised CCP and FONSI by any of the following methods. You may request a paper copy, a summary, or a CD-ROM containing both.

Agency Web Site: Download a copy of the documents at http://alaska.fws.gov/nwr/planning/tetpol.htm.

E-mail: fw7_tetlin_planning@fws.gov. Please include “Tetlin Refuge Revised CCP” in the subject line of the message.

Mail: Mikel Haase, Planning Team Leader, U.S. Fish and Wildlife Service, 1011 East Tudor Road, MS 231, Anchorage, AK 99503-6199.

In-Person Viewing or Pickup: Call (907) 786-3357 to make an appointment during regular business hours at the USFWS Regional Office, 1011 E. Tudor Road, Anchorage, AK 99503 or call (907) 883-5312 to make an appointment during regular business hours at Tetlin Refuge, Mile Post 1314 Alaska Highway, Tok, AK 99780.

FOR FURTHER INFORMATION CONTACT: Mikel Haase, Planning Team Leader, (907) 786-3402 or fw7_tetlin_planning@fws.gov.

SUPPLEMENTARY INFORMATION:

Introduction

With this notice, we finalize the CCP process for the Tetlin Refuge. We started this process with a notice of intent in the Federal Register (69 FR 70704, Dec. 7, 2004) and a revised notice of intent in the Federal Register (71 FR 42116, July 25, 2006). We announced the availability of the draft CCP and EA, and requested comments in a notice of availability in the Federal Register (72 FR 56371, Oct. 3, 2007).

Tetlin Refuge is located northeast of the Alaska Range, adjacent to the U.S.-Canada border in the headwaters of the Tanana River. It is bordered by Wrangell-St. Elias National Park and Preserve to the south and Canada to the east. The Alaska Highway runs adjacent to its northeastern border. The Refuge lies within the Nabesna/Chisana River Basin, in the Upper Tanana Valley. The large, flat basin of the Upper Tanana River Valley is dominated by lakes, ponds, and wetland tundra. Most of the Refuge is rolling lowlands; however, the Mentasta Mountains in the refuge's southwest corner are rugged, glacier-carved peaks reaching elevations of 8,000 feet. The Refuge boundaries encompass over 900,000 acres, of which about 700,000 acres are Federal lands. The landscape provides valuable habitat for a wide variety of fish and wildlife species. The Upper Tanana Valley, including Tetlin Refuge, is one of the most significant migratory bird corridors in the world as it is located along three major flyways. The extensive wetlands, rivers, ponds, and forests of the Refuge provide resting and breeding habitats for hundreds of thousands of migratory birds.

We announce our decision and the availability of the FONSI for the revised CCP for the Tetlin Refuge in accordance with National Environmental Policy Act (NEPA) (40 CFR 1506.6(b)) requirements. We completed a thorough analysis of impacts on the human environment in the EA that accompanied the draft revised CCP.

The CCP will guide us in managing and administering the Tetlin Refuge for the next 15 years. The revised CCP is Alternative B, the preferred alternative in the draft CCP, developed in response to public scoping comments.

Background

The Alaska National Interest Lands Conservation Act of 1980 (94 Stat. 2371; ANILCA) and the National Wildlife Refuge System Improvement Act of 1997 (16 U.S.C. 668dd-668ee) require us to develop a CCP for each Alaska refuge. The purpose for developing a CCP is to provide refuge managers with a 15-year plan for achieving refuge purposes and contributing toward the mission of the National Wildlife Refuge System, consistent with sound principles of fish and wildlife management, conservation, legal mandates, and our policies. We will review and update the CCP at least every 15 years in accordance with national policy and ANILCA.

ANILCA requires us is to designate areas according to their respective resources and values and to specify programs and uses within the areas designated. To meet this requirement, the Alaska Region established management categories for refuges including Wilderness, Minimal, Moderate, Intensive, and Wild River management. For each management category we identified appropriate activities, public uses, commercial uses, and facilities. Only the Minimal, Moderate, and Intensive management categories are applied to Tetlin Refuge.

Draft CCP Alternatives

Our draft CCP and EA addressed five issues and evaluated three alternatives. The five significant issues raised during scoping were: (1) The visitor services role of Tetlin Refuge in the upper Tanana Valley; (2) refuge role in providing opportunities for access and associated facilities for existing and expanding wildlife-dependent uses of the Refuge; (3) management of fire on the Refuge to provide adequate protection of refuge resources and private property within and adjacent to the Refuge; (4) use of prescribed fire as a method of habitat management; and (5) use of fishery management actions to maintain native fish breeding stocks and enhance recreational fishing.

Alternative A (the no-action alternative—a NEPA requirement) described what would happen with a continuation of current management activities and served as a baseline for comparison of other alternatives. Under Alternative A, management of the refuge would continue to follow the current course of action as described in the 1987 Tetlin CCP and Record of Decision as modified by subsequent program-specific plans. Refuge lands would remain in their present management categories—about 564,300 acres (82.7 percent) in Minimal management, 116,600 acres (17.1 percent) in Moderate management, and 1,700 acres (less than one percent) in Intensive management.

Under our selected alternative, Alternative B, refuge lands would continue to be managed in their present management categories. New regional policies and guidelines for national wildlife refuges in Alaska would be incorporated. In addition to the actions included under Alternative A, the Refuge would work to gain “Gateway Community” status for Tok, promote opportunities for current and new public uses and facilities, continue to protect resources and property from fire, emphasizing the use of natural fire and a variety of fire management techniques, and native fisheries would be managed to maintain natural diversity. See below for additional details.

Under Alternative C, no changes in land management classifications would occur. New regional policies and guidelines for national wildlife refuges in Alaska would be incorporated. In addition to actions under Alternatives A and B, this alternative would expand the refuge interpretive program and includes construction of additional interpretive facilities, hiking trails, boat launches, other recreation and access-related facilities, and public use cabins. It would also establish a fee system at some campgrounds to support additional amenities, and mark campsites and maintain portages on canoe routes. Fire suppression would be the primary tool to protect resources and property on the Refuge. Fisheries management would be the same as under Alternative B.

Comments on the Draft CCP

Comments on the draft CCP/EA for Tetlin Refuge were solicited by the Service from October 3, 2007, through January 18, 2008. During the public review and comment period the Service held public meetings in Fairbanks, Northway, Tanacross, Tetlin, and Tok. The planning team reviewed, analyzed, and summarized all comments received at the public meetings and in writing. We received a number of comments which supported plans for additional recreational opportunities and facilities, additional access to the Refuge, and that all-terrain vehicle use be restricted. Support was expressed for use of natural fire management regimes, restricted use of prescribed fire, and use of aggressive fire control only in or near intensive use areas and around private inholdings. Several comments were made regarding management of fish and wildlife populations-related specifically to invasive species, non-native species, predator control, and trophy fisheries.

Selected Alternative—Alternative B

Under the selected alternative, refuge lands would remain in their present management categories—about 564,300 acres (82.7 percent) in Minimal management, 116,600 acres (17.1 percent) in Moderate management, and 1,700 acres (less than one percent) in Intensive management. Along with the actions described under Alternative A, the Refuge would pursue additional management actions under Alternative B. The Refuge would work with the local community to seek formal recognition of Tok as a “Gateway Community” and to increase opportunities for environmental education, interpretation, and recreation off-Refuge and in support of or in conjunction with refuge programs. Opportunities for current and new public use would be promoted (canoe routes established and public outreach would encourage use of administrative cabins); additional public use facilities would be constructed, upgraded, or established (additional hiking trails and primitive campsites at Seaton Roadhouse and sanitary facilities-in conjunction with the Alaska Department of Transportation—at highway pullouts). The Refuge would upgrade or establish additional access (to promote day-use near the Alaska Highway, to increase season of use at Lakeview and Deadman Lake campgrounds, and to provide additional backcountry opportunities); and additional signing (for interpretive pullouts and undeveloped trailheads and access points). There would continue to be no use of all-terrain vehicles authorized on the refuge.

The Refuge would continue to protect resources and property using a variety of fire management techniques including prescribed burning, suppression, thinning, and wildland fire use. The use of natural fire would be emphasized with prescribed burns based only on specific project objectives (e.g. fuels reduction, habitat protection, or fire effects research) and suppression to reduce potential for large-scale wildfires and to maintain long-term ecological health of refuge lands. Natural fire would be the primary tool to maintain and enhance habitat. Native fisheries would be managed to maintain self-sustaining, healthy populations to contribute to the natural diversity in the Upper Tanana Valley; any new reintroduction plans will be based on historic distribution.

Dated: October 10, 2008.
Thomas O. Melius,
Regional Director, U.S. Fish and Wildlife Service, Anchorage, Alaska.

[FR Doc. E8-25283 Filed 10-22-08; 8:45 am]

BILLING CODE 4310-55-P